ENVIRONMENTAL PROTECTION AGENCY

[ER-FRL-9021-1]

Environmental Impact Statements; Notice of Availability

Responsible Agency: Office of Federal Activities, General Information (202) 564-7146 or http://www.epa.gov/compliance/nepa/.

Weekly receipt of Environmental Impact Statements

Filed 05/11/2015 Through 05/15/2015

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20150131, Final, FHWA, TX, US 281, Review Period Ends: 06/22/2015, Contact: Carlos Swonke 512 416-2734.

EIS No. 20150132, Draft Supplement, FTA, MN, Southwest Light Rail Transit (Metro Green Line Extension) Comment Period Ends: 07/06/2015, Contact: Maya Sarna 202-366-5811.

EIS No. 20150133, Draft, NRC, WI, Construction Permit for the SHINE Medical Radioisotope Production Facility, Comment Period Ends: 07/06/2015, Contact: Michelle Moser 301-415-6509.

EIS No. 20150134, Final, USACE, CA, Encinitas-Solana Beach Coastal Storm Damage Reduction Project, Review Period Ends: 06/22/2015, Contact: Lee Ware 202-761-0523.

EIS No. 20150135, Draft, USFS, CA, King Fire Restoration, Comment Period Ends: 06/22/2015, Contact: Katy Parr 530-621-5203.

The U.S. Department of Agriculture's Forest Service requested and was granted approval to shorten the public comment period for this Draft EIS from 45 to 30 days, reflecting the President's Council on Environmental Quality (CEQ) alternative arrangement granted in accordance with 40 CFR 1506.11.

EIS No. 20150136, Final, USN, GU, Mariana Islands Training and Testing, Review Period Ends: 06/22/2015, Contact: Nora Macariola-See 808-472-1402.

Dated: May 19, 2015.
Cliff Rader,
Director, NEPA Compliance Division, Office of Federal Activities.

[FR Doc. 2015-12508 Filed 5-21-15; 8:45 am]

BILLING CODE 6560-50-P